ENVIRONMENTAL PROTECTION AGENCY

[FRL-9941-22-Region 6]

Adequacy Status of the Dallas-Fort Worth, Texas Reasonable Further Progress 8-Hour Ozone Motor Vehicle Emission Budgets for Transportation Conformity Purposes

AGENCY: Environmental Protection Agency (EPA).

ACTION: Notice of adequacy.

SUMMARY: EPA is notifying the public that it has found that the motor vehicle emissions budgets (MVEBs) in the Dallas-Fort Worth, Texas (DFW) Reasonable Further Progress (RFP) State Implementation Plan (SIP) revision, submitted on July 10, 2015 by the Texas Commission on Environmental Quality (TCEQ) are adequate for transportation conformity purposes. As a result of EPA's finding, the DFW area must use these budgets for future conformity determinations.

DATES: These budgets are effective January 26, 2016.

FOR FURTHER INFORMATION CONTACT: The essential information in this notice will be available at EPA's conformity Web site: http://www.epa.gov/otaq/stateresources/transconf/adequacy.htm. You may also contact Mr. Jeffrey Riley, Air Planning Section (6PD-L), U.S. Environmental Protection Agency, Region 6, 1445 Ross Avenue, Dallas, Texas 75202-2733, telephone (214) 665-8542, Email address: Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On July 10, 2015, we received a SIP revision from the TCEQ. This revision consisted of an RFP SIP for the DFW ozone nonattainment area. This submission established MVEBs for the DFW area for the year 2017. The MVEB is the amount of emissions allowed in the state implementation plan for on-road motor vehicles; it establishes an emissions ceiling for the regional transportation network. The MVEBs are provided in Table 1:

Table 1—Dallas-Fort Worth Reasonable Further Progress NOX and VOC MVEBS
[Summer season tons per day]
| 2017
NOX | 148.36
VOC | 77.18

On August 25, 2015, EPA posted the availability of the DFW area MVEBs on EPA's Web site for the purpose of soliciting public comments, as part of the adequacy process. The comment period closed on September 24, 2015, and we received no comments.

Today's notice is simply an announcement of a finding that EPA has already made. EPA Region 6 sent a letter to TCEQ on December 10, 2015, finding that the MVEBs in the DFW RFP SIP, submitted on July 10, 2015 are adequate and must be used for transportation conformity determinations in the DFW area. This finding has also been announced on EPA's conformity Web site: http://www.epa.gov/otaq/stateresources/transconf/adequacy.htm.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the DFW RFP SIP revision submittal. Even if EPA finds the budgets adequate, the DFW RFP SIP revision submittal could later be disapproved.

Within 24 months from the effective date of this notice, the DFW-area transportation partners, such as the North Central Texas Council of Governments, will need to demonstrate conformity to the new MVEBs if the demonstration has not already been made, pursuant to 40 CFR 93.104(e). See, 73 FR 4419 (January 24, 2008).

Authority: 42 U.S.C. 7401 et seq.

Dated: December 29, 2015.
Samuel Coleman,
Acting Regional Administrator, Region 6.

[FR Doc. 2016-00339 Filed 1-8-16; 8:45 am]

BILLING CODE 6560-50-P